DEPARTMENT OF HOMELAND SECURITY

Public Availability of DHS Fiscal Year 2014 Service Contract Inventory

AGENCY: Office of the Chief Procurement Officer, DHS.

ACTION: Notice of availability.

SUMMARY: In accordance with Section 743 of Division C of the Consolidated Appropriations Act of 2010 (Pub. L. 111-117), the Department of Homeland Security (DHS) is publishing this notice to advise the public of the availability of the FY 2014 Service Contract inventory. This inventory provides information on service contract actions over $25,000 that were awarded in FY 2014. The information is organized by function to show how contracted resources are distributed throughout the agency. DHS developed the inventory following the guidance issued on November 5, 2010 and December 19, 2011 by Office of Management and Budget's Office of Federal Procurement Policy (OFPP). This guidance is available at http://www.whitehouse.gov/omb/procurement-service-contract-inventories. Additionally, beginning with the FY 2014 inventory, agency inventories must include information collected from contractors on the amount invoiced and the direct labor hours expended on covered service contracts. The new requirement was published in the Federal Register on December 31, 2013 and is available at https://www.federalregister.gov/articles/2013/12/31/2013-31148/federal-acquisition-regulation-service-contracts-reporting-requirements. DHS has posted its FY 2014 inventory for public review at: http://www.dhs.gov/acquisition-reports-and-notices#2 under “Acquisition Reports and Notices.”

FOR FURTHER INFORMATION CONTACT: For questions about this notice, please contact Gail Carter at Gail.Carter@hq.dhs.gov, or telephone 202-447-5302.

Laura Auletta,
Executive Director, Procurement and Acquisition Workforce.

[FR Doc. 2015-08817 Filed 4-16-15; 8:45 am]

BILLING CODE 9110-9B-P